DEPARTMENT OF HEALTH AND HUMAN SERVICES

Centers for Disease Control and Prevention

[60 Day-03-32]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman , CDC Assistant Reports Clearance Officer, 1600 Clifton Road, MS-D24, Atlanta, GA 30333. Written comments should be received within 60 days of this notice.

Proposed Project: The Role of Power and Control in Intimate Partner Violence—New—The National Center for Injury Prevention and Control (NCIPC), Centers for Disease Control and Prevention (CDC), plans to draw a sample of individuals convicted of battering in the Dallas County Domestic Violence Court, and a sample of men living in Dallas County. The study participants, which will include two samples of men, will be asked to complete a survey that will utilize information collection instruments and methods developed and tested by experts in the fields of psychology and sociology. The study will include psychological assessments of attachment, depression, anger, and sociological assessments of peer support for violence, attitudes toward violence, and attitudes toward sex roles.

The data will be collected to further understand the psychological and sociological correlates of battering (e.g., male battering of female partners), which will, in turn, assist in developing models for intervention programs.

The only cost to the respondents is the time involved to complete the survey.

Respondents | Number of respondents | Number of responses/ respondent | Average Burden/ response (in hours) | Total burden (in hours)
Men convicted of battering in Dallas County & sampling of men in Dallas County | 400 | 1 | 60/60 | 400
Total | 400 | 1 | 60/60 | 400

Dated: December 30, 2002.
Nancy E. Cheal,
Acting Associate Director for Policy, Planning and Evaluation, Centers for Disease Control and Prevention.

[FR Doc. 03-143 Filed 1-3-03; 8:45 am]

BILLING CODE 4163-18-P